DEPARTMENT OF TRANSPORTATION

Pipeline and Hazardous Materials Safety Administration

49 CFR Parts 173, 174, 178, 179, and 180

[Docket No. PHMSA-2012-0082 (HM-251)]

RIN 2137-AE91

Hazardous Materials: Rail Petitions and Recommendations To Improve the Safety of Railroad Tank Car Transportation (RRR)

AGENCY: Pipeline and Hazardous Materials Safety Administration (PHMSA), DOT.

ACTION: Advance Notice of Proposed Rulemaking (ANPRM), extension of comment period.

SUMMARY: PHMSA is notifying the public of our intent to extend the comment period by 30 days for a notice of proposed rulemaking published on September 6, 2013.

DATES: The comment period for the ANPRM closing on November 5, 2013 is extended until December 5, 2013. To the extent possible, PHMSA will consider late-filed comments during the next stage of the rulemaking process.

ADDRESSES: You may submit comments identified by the docket number (PHMSA-2012-0082) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue SE., Washington, DC 20590.

• Hand Delivery: To Docket Operations, Room W12-140 on the ground floor of the West Building, 1200 New Jersey Avenue SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

FOR FURTHER INFORMATION CONTACT: Karl Alexy, (202) 493-6245, Office of Safety Assurance and Compliance, Federal Railroad Administration or Ben Supko, (202) 366-8553, Standards and Rulemaking Division, Pipeline and Hazardous Materials Safety Administration, US Department of Transportation, 1200 New Jersey Ave. SE., Washington, DC 20590-0001.

SUPPLEMENTARY INFORMATION:

I. Background

On September 6, 2013, PHMSA published a notice of proposed rulemaking (ANPRM; 78 FR 54849) seeking public comments on whether issues raised in eight petitions and four NTSB recommendations would enhance safety, revise, and clarify the Hazardous Materials Regulations (HMR; 49 CFR parts 171-180) with regard to rail transport. Specifically, we requested comments on important amendments that would: (1) Enhance the standards for DOT Specification 111 tank cars used to transport Packing Group I and II hazardous materials; (2) explore the feasibility of additional operational requirements to enhance the safe transportation of Packing Group I and II hazardous materials; (3) afford DOT greater discretion to authorize the movement of non-conforming tank cars; (4) correct regulations that allow an unsafe condition associated with pressure relief valves (PRV) on rail cars transporting carbon dioxide, refrigerated liquid; (5) revise outdated regulations applicable to the repair and maintenance of DOT Specification 110, DOT Specification 106, and ICC 27 tank car tanks (ton tanks); and (6) except rupture discs from removal if the inspection itself would damage, change, or alter the intended operation of the device.

II. Comment Period Extension

We received a request to extend the comment period by 90-days from the Sierra Club on behalf of Climate Parents, Columbia Riverkeeper, ForestEthics, Friends of Earth, Natural Resources Defense Council, Oil Change International, San Francisco Baykeeper, Spokane Riverkeeper, Washington Environmental Council, and the Waterkeeper Alliance. The request indicates that the primary basis for extension is to allow the public a meaningful review of these proposed changes in rail safety, especially regarding tank cars transporting crude oil and tar sands while highlighting several recent tank car incidents. The request also indicates that the recent government shutdown prevented communication with DOT staff for review of the technical proposals during the initial 60-day comment period.

Although PHMSA normally considers an initial 60-day comment period sufficient time to review and respond to rulemaking proposals, due to PHMSA's desire to collect meaningful input from a number of potentially affected stakeholders, PHMSA is consenting to the commenter request to extend the comment period to ensure sufficient time for public review. However, we do not consider a 90-day extension to be warranted. Accordingly, in the interest of moving this rulemaking action forward in a timely manner, we believe, extending the comment period by 30 days would allow sufficient to time to conduct a thorough review.

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

Issued in Washington, DC, on October 30, 2013 under authority delegated in 49 CFR 1.97.
Magdy El-Sibaie,
Associate Administrator for Hazardous Materials Safety, Pipeline and Hazardous Materials Safety Administration.

[FR Doc. 2013-26402 Filed 11-4-13; 8:45 am]

BILLING CODE 4910-60-P